DEPARTMENT OF COMMERCE

National Oceanic and Atmospheric Administration

RIN 0648-XF019

Caribbean Fishery Management Council; Public Meeting

AGENCY: National Marine Fisheries Service (NMFS), National Oceanic and Atmospheric Administration (NOAA), Commerce.

ACTION: Notice of a public meeting.

SUMMARY: The Caribbean Fishery Management Council (Council) will hold its 158th meeting.

DATES: The meeting will be held on December 13-14, 2016. The Council will convene on Tuesday, December 13, 2016, from 9 a.m. to 5:30 p.m., and will reconvene on Wednesday, December 14, 2016, from 9 a.m. to 5 p.m.

ADDRESSES: The Frenchman's Reef & Morning Star Marriott Beach Resort, 5 Estate Bakkeroe, St. Thomas, USVI

FOR FURTHER INFORMATION CONTACT: Caribbean Fishery Management Council, 270 Muñoz Rivera Avenue, Suite 401, San Juan, Puerto Rico 00918, telephone (787) 766-5926.

SUPPLEMENTARY INFORMATION: The Council will hold its 158th regular Council Meeting to discuss the items contained in the following agenda:

December 13, 2016, 9 a.m.-5:30 p.m.

○ Call to Order

○ Adoption of Agenda

○ Consideration of 157th Council Meeting Verbatim Transcriptions

○ Executive Director's Report

○ Scientific and Statistical Committee Report—Dr. Richard Appeldoorn

○ SEDAR 2017 Update on Life History Workshop and Spiny Lobster

○ Accountability Measure Timing-Update on Status Following Secretarial Submission

○ Island-based Fishery Management Plans

—Review of Proposed Actions and Alternatives

—Timeline Status, SSC and DAP Meeting Schedule, Next Council Steps

—Goals and Objectives

—Puerto Rico

—St. Thomas/St. John

—St. Croix

○ Outcomes from public hearings on the development of a permit program for harvest of Snapper Unit 2 from the Puerto Rico EEZ

○ Developing an alternative annual catch limit (ACL) benchmark for application of accountability measures (AMs)

○ Initiating development of a Fishery Ecosystem Plan for the U.S. Caribbean

○ Identification of ACL overages and the need to apply AMs in the 2017 fishing year

○ Ocean Economics of Puerto Rico and the U.S. Virgin Islands—Jeffery Adkins

○ Other Business

—Exempted Fishing Permit for Puerto Rico—Department of Natural and Environmental Resources

PUBLIC COMMENT PERIOD (5-minutes presentations)

○ Administrative Matters

—CY-2017

—Closed Session

December 14, 2016, 9 a.m.-5 p.m.

○ Puerto Rico Fishers Spiny Lobster Data Collection Initiative

○ Marine Recreational Information Program-Status of Regional Implementation Plan

○ Atlantic HMS Fisheries—Delisse Ortíz/Jen Cudney

○ SEAMAP Update

○ Outreach and Education Report—Dr. Alida Ortíz

○ Update on Ongoing Reef Fish and Spiny Lobster Endangered Species 7 Consultation—Jennifer Lee—SERO/PRD

○ Enforcement Issues:

—Puerto Rico-DNER

—U.S. Virgin Islands-DPNR

—U.S. Coast Guard

—NMFS/NOAA

○ Meetings Attended by Council Members and Staff

PUBLIC COMMENT PERIOD (5-minute presentations)

○ Other Business

○ Next Meeting(s)

The established times for addressing items on the agenda may be adjusted as necessary to accommodate the timely completion of discussion relevant to the agenda items. To further accommodate discussion and completion of all items on the agenda, the meeting may be extended from, or completed prior to the date established in this notice.

The meeting is open to the public, and will be conducted in English. Fishers and other interested persons are invited to attend and participate with oral or written statements regarding agenda issues.

Although non-emergency issues not contained in this agenda may come before this group for discussion, those issues may not be subjects for formal action during this meeting. Actions will be restricted to those issues specifically identified in this notice, and any issues arising after publication of this notice that require emergency action under section 305(c) of the Magnuson-Stevens Fishery Conservation and Management Act, provided that the public has been notified of the Council's intent to take final action to address the emergency.

Special Accommodations

The meeting is physically accessible to people with disabilities. For more information or request for sign language interpretation and/other auxiliary aids, please contact Mr. Miguel A. Rolón, Executive Director, Caribbean Fishery Management Council, 270 Muñoz Rivera Avenue, Suite 401, San Juan, Puerto Rico, 00918, telephone (787) 766-5926, at least 5 days prior to the meeting date.

Dated: November 22, 2016.
Tracey L. Thompson,
Acting Deputy Director, Office of Sustainable Fisheries, National Marine Fisheries Service.

[FR Doc. 2016-28509 Filed 11-25-16; 8:45 am]

BILLING CODE 3510-22-P